DEPARTMENT OF LABOR

Employment and Training Administration

[TA-W-50,665]

Deepwell Tubular Services, Inc., Midland, TX; Notice of Termination of Investigation

Pursuant to section 221 of the Trade Act of 1974, as amended, an investigation was initiated on January 23, 2003 in response to a worker petition filed by a worker on behalf of the workers at Deepwell Tubular Services, Inc., Midland, Texas.

The petition regarding the investigation has been deemed invalid. Consequently, the investigation has been terminated.

Signed at Washington, DC, this 31st day of January, 2003.
Linda G. Poole,
Certifying Officer, Division of Trade Adjustment Assistance.

[FR Doc. 03-4278 Filed 2-21-03; 8:45 am]

BILLING CODE 4510-30-P